ENVIRONMENTAL PROTECTION AGENCY

[OW-2004-0026; FRL-7920-8]

Agency Information Collection Activities; Submission to OMB for Review and Approval; Comment Request; Baseline Standards and Best Management Practices for the Coal Mining Point Source Category—Coal Remining Subcategory and Western Alkaline Coal Mining Subcategory (Renewal), EPA ICR Number 1944.03, OMB Control Number 2040-0239

AGENCY: Environmental Protection Agency.

ACTION: Notice.

SUMMARY: In compliance with the Paperwork Reduction Act (44 U.S.C. 3501 et seq.), this document announces that an Information Collection Request (ICR) has been forwarded to the Office of Management and Budget (OMB) for review and approval. This is a request to renew an existing approved collection. This ICR is scheduled to expire on May 31, 2005. Under OMB regulations, the Agency may continue to conduct or sponsor the collection of information while this submission is pending at OMB. This ICR describes the nature of the information collection and its estimated burden and cost.

DATES: Additional comments may be submitted on or before July 5, 2005.

ADDRESSES: Submit your comments, referencing docket ID number OW-2004-0026, to (1) EPA online using EDOCKET (our preferred method), by e-mail to OW-Docket@epa.gov, or by mail to: EPA Docket Center, Environmental Protection Agency, Water Docket, Mail Code 4101T, 1200 Pennsylvania Ave., NW., Washington, DC 20460, and (2) OMB at: Office of Information and Regulatory Affairs, Office of Management and Budget (OMB), Attention: Desk Officer for EPA, 725 17th Street, NW., Washington, DC 20503.

FOR FURTHER INFORMATION CONTACT: Jack Faulk, Mail Code 4203M, Environmental Protection Agency, 1200 Pennsylvania Ave., NW., Washington, DC 20460; telephone number: 202-564-0768; fax number: 202-564-6431; e-mail address: faulk.jack@epa.gov.

SUPPLEMENTARY INFORMATION: EPA has submitted the following ICR to OMB for review and approval according to the procedures prescribed in 5 CFR 1320.12. On August 30, 2004 (69 FR 52883), EPA sought comments on this ICR pursuant to 5 CFR 1320.8(d). EPA received no comments.

EPA has established a public docket for this ICR under Docket ID No. OW-2004-0026, which is available for public viewing at the Water Docket in the EPA Docket Center (EPA/DC), EPA West, Room B102, 1301 Constitution Ave., NW., Washington, DC. The EPA Docket Center Public Reading Room is open from 8:30 a.m. to 4:30 p.m., Monday through Friday, excluding legal holidays. The telephone number for the Reading Room is (202) 566-1744, and the telephone number for the Water Docket is (202) 566-2426. An electronic version of the public docket is available through EPA Dockets (EDOCKET) at http://www.epa.gov/edocket. Use EDOCKET to submit or view public comments, access the index listing of the contents of the public docket, and to access those documents in the public docket that are available electronically. Once in the system, select “search,” then key in the docket ID number identified above.

Any comments related to this ICR should be submitted to EPA and OMB within 30 days of this notice. EPA's policy is that public comments, whether submitted electronically or in paper, will be made available for public viewing in EDOCKET as EPA receives them and without change, unless the comment contains copyrighted material, CBI, or other information whose public disclosure is restricted by statute. When EPA identifies a comment containing copyrighted material, EPA will provide a reference to that material in the version of the comment that is placed in EDOCKET. The entire printed comment, including the copyrighted material, will be available in the public docket. Although identified as an item in the official docket, information claimed as CBI, or whose disclosure is otherwise restricted by statute, is not included in the official public docket, and will not be available for public viewing in EDOCKET. For further information about the electronic docket, see EPA's Federal Register notice describing the electronic docket at 67 FR 38102 (May 31, 2002), or go to http://www.epa.gov/edocket.

Title: Baseline Standards and Best Management Practices for the Coal Mining Point Source Category—Coal Remining Subcategory and Western Alkaline Coal Mining Subcategory (Renewal)

Abstract: This ICR presents estimates of the burden and costs to the regulated community (i.e., coal remining sites and western alkaline surface coal mining sites) and NPDES permit control authorities for data collection and record keeping associated with modeling, Best Management Practice (BMP) implementation, baseline monitoring, and performance monitoring requirements of the Coal Mining Point Source—Coal Remining Subcategory and Western Alkaline Coal Mining Subcategory Effluent Limitations Guidelines (40 CFR 434.70 and 434.80).

Coal remining is the mining of surface mine lands, underground mine lands, and coal refuse piles that have been previously mined and abandoned. Acid mine drainage from abandoned coal mines is a significant problem in Appalachia, with approximately 1.1 million acres of abandoned coal mine lands and over 9,700 miles of streams polluted by acid mine drainage.

During the remining process, acid forming materials are removed with the extraction of the coal, pollution abatement BMPs are implemented under applicable regulatory requirements, and the abandoned mine land is reclaimed. During remining, many of the problems associated with abandoned mine land, such as dangerous highwalls, vertical openings, and abandoned coal refuse piles can be corrected without using public funds.

The remining regulations include a requirement that the operator implement BMPs to demonstrate the potential to improve water quality. The site-specific BMPs will be incorporated into a pollution abatement plan. Data collection and record keeping requirements under this Subcategory will include baseline determination, annual monitoring and reporting for pre-existing discharges and a description of site-specific BMPs. In most cases, EPA believes that the BMP requirements for the pollution abatement plan will be satisfied by an approved SMCRA plan.

Western alkaline coal mines include surface and underground mining operations located in the interior western United States. EPA estimates that 46 mine sites will be affected by this subcategory, representing 2% of the total number of U.S. coal mines, but accounting for 1/3 of U.S. coal production.

The subcategory establishes nonnumeric limitations on the amount of sediment that can be discharged from coal mine reclamation areas. In lieu of numeric standards, the mine operator must develop a site-specific sediment control plan for surface reclamation areas identifying BMP design, construction, and maintenance specifications and expected effectiveness. The operator will be required to demonstrate, using models accepted by the regulatory authority, that implementation of the BMPs will ensure that average annual sediment levels in drainage from reclamation areas would not exceed predicted natural background levels of sediment discharges at that site. Data collection and record keeping requirements under this Subcategory will include a description of site-specific sediment control BMPs and watershed model results. EPA believes that plans developed to comply with SMCRA requirements will usually fulfill the EPA requirements for sediment control plans.

EPA does not expect that any confidential business information or trade secrets will be required from coal mining operators as part of this ICR. If information submitted in conjunction with this ICR were to contain confidential business information, the respondent has the authority to request that the information be treated as confidential business information. All data so designated will be handled by EPA pursuant to 40 CFR part 2. This information will be maintained according to procedures outlined in EPA's Security Manual Part III, Chapter 9, dated August 9, 1976. Pursuant to section 308(b) of the CWA, effluent data may not be treated as confidential.

An agency may not conduct or sponsor, and a person is not required to respond to, a collection of information unless it displays a currently valid OMB control number. The OMB control numbers for EPA's regulations in 40 CFR are listed in 40 CFR part 9 and are identified on the form and/or instrument, if applicable.

Burden Statement: The annual public reporting and recordkeeping burden for this collection of information is estimated to average 21 hours per response for the coal remining sites and 405 hours annually for the ten state NPDES permitting authorities. No additional burden is projected for the 46 western alkaline coal mining sites. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Respondents/Affected Entities: Entities potentially affected by this action are coal remining sites with pre-existing discharges; western alkaline coal mining sites with sediment control; and NPDES permit control authorities.

Estimated Number of Respondents: 88.

Frequency of Response: varies (generally ranging between monthly and annually).

Estimated Total Annual Hour Burden: 5,685.

Estimated Total Annual Cost: $340,000, includes $0 annualized capital or O&M costs.

Changes in the Estimates: There is decrease in burden hours and responses currently identified in the OMB Inventory of Approved ICR Burdens due to an adjustment. The previous ICR had mistakenly used 3-year burden hours to calculate associated costs, this renewal ICR corrects this error and reports the annual burden estimates.

Dated: May 18, 2005.
Oscar Morales,
Director, Collection Strategies Division.

[FR Doc. 05-11101 Filed 6-2-05; 8:45 am]

BILLING CODE 6560-50-P